DEPARTMENT OF COMMERCE

International Trade Administration

[A-570-965]

Drill Pipe From the People's Republic of China: Amended Final Determination of Critical Circumstances

AGENCY: Import Administration, International Trade Administration, Department of Commerce

DATES: Effective Date: February 8, 2011.

FOR FURTHER INFORMATION CONTACT: Toni Dach, Susan Pulongbarit, or Matthew Renkey, AD/CVD Operations, Office 9, Import Administration, International Trade Administration, U.S. Department of Commerce, 14th Street and Constitution Avenue, NW., Washington DC 20230; telephone: (202) 482-1655, (202) 482-4031, or (202) 482-2312, respectively.

SUPPLEMENTARY INFORMATION:

Background

On January 11, 2011, the Department of Commerce (“Department”) published in the Federal Register the final determination in the antidumping duty investigation of drill pipe from the People's Republic of China (“PRC”).¹

¹ See Drill Pipe From the People's Republic of China: Final Determination of Sales at Less Than Fair Value and Critical Circumstances, 76 FR 1966 (January 11, 2011) (“Final Determination”).

On January 12, 2011, VAM Drilling USA, Inc., Texas Steel Conversion, Inc., Rotary Drilling Tools, TMK IPSCO, and the United Steel, Paper and Forestry, Rubber, Manufacturing, Energy, Allied Industrial and Service Workers International Union, AFL-CIO-CLC (collectively “Petitioners”); and Baoshan Iron & Steel Co., Ltd. (“Baoshan”) filed timely allegations that the Department made various ministerial errors in the Final Determination and requested, pursuant to 19 CFR 351.224, that the Department correct the alleged ministerial errors. No other party in this proceeding submitted comments on the Department's final margin calculations.

Based upon our analysis of the comments and allegations of ministerial errors, we made changes to the determination of critical circumstances for DP-Master Manufacturing Co., Ltd. and Jiangyin Liangda Drill Pipe Co., Ltd. (collectively “the DP-Master Group”). Furthermore, as a result of correcting the errors in the final determination of critical circumstances for the DP-Master Group, the determination of critical circumstances for the companies granted separate-rate status ² was also revised because the change in import volumes for those companies were derived from the calculation of changes in import volumes of the DP-Master Group, Baoshan, and Shanxi Yida Special Steel Imp. & Exp. Co., Ltd. (“Yida”). However, we have determined that, pursuant to 19 CFR 351.224(e), it is not appropriate to make changes to our calculation of freight with respect to Baoshan because this correction would not alter the de minimis margin found for Baoshan in the Final Determination.

² Shanxi Fenglei Drilling Tools Co., Ltd., Jiangsu Shuguang Huayang Drilling Tool Co., Ltd., and Jiangyin Long-Bright Drill Pipe Manufacturing Co., Ltd. (collectively “Separate Rate Respondents”).

Scope of the Investigation

The products covered by the investigation are steel drill pipe, and steel drill collars, whether or not conforming to American Petroleum Institute (“API”) or non-API specifications. Included are finished drill pipe and drill collars without regard to the specific chemistry of the steel (i.e., carbon, stainless steel, or other alloy steel), and without regard to length or outer diameter. Also included are unfinished drill collars (including all drill collar green tubes) and unfinished drill pipe (including drill pipe green tubes, which are tubes meeting the following description: Seamless tubes with an outer diameter of less than or equal to 6⅝ inches (168.28 millimeters), containing between 0.16 and 0.75 percent molybdenum, and containing between 0.75 and 1.45 percent chromium). The scope does not include tool joints not attached to the drill pipe, nor does it include unfinished tubes for casing or tubing covered by any other antidumping or countervailing duty order.

The subject products are currently classified in the following Harmonized Tariff Schedule of the United States (“HTSUS”) categories: 7304.22.0030, 7304.22.0045, 7304.22.0060, 7304.23.3000, 7304.23.6030, 7304.23.6045, 7304.23.6060, 8431.43.8040 and may also enter under 8431.43.8060, 8431.43.4000, 7304.39.0028, 7304.39.0032, 7304.39.0036, 7304.39.0040, 7304.39.0044, 7304.39.0048, 7304.39.0052, 7304.39.0056, 7304.49.0015, 7304.49.0060, 7304.59.8020, 7304.59.8025, 7304.59.8030, 7304.59.8035, 7304.59.8040, 7304.59.8045, 7304.59.8050, and 7304.59.8055.

While HTSUS subheadings are provided for convenience and customs purposes, the written description of the scope of the investigation is dispositive.

Amended Final Results of the Investigation

The Tariff Act of 1930, as amended (the “Act”), defines a “ministerial error” as including “errors in addition, subtraction, or other arithmetic function, clerical errors resulting from inaccurate copying, duplication, or the like, and any other type of unintentional error which the administering authority considers ministerial.” See section 735(e) of the Act. After analyzing Petitioners' and Baoshan's comments, we have determined that we made certain ministerial errors, as defined by section 735(e) of the Act, in our calculations for the Final Determination with respect to our determination of critical circumstances for the DP-Master Group and our calculation of freight expenses for certain inputs for Baoshan. However, as noted above, we have found that, pursuant to 19 CFR 351.224(e), it is only appropriate to amend the Final Determination with respect to the DP-Master Group and the Separate Rate Respondents. For a detailed discussion of these ministerial errors, as well as the Department's analysis of these errors, see Memorandum to James C. Doyle, through Paul Walker, from Susan Pulongbarit and Toni Dach, regarding “Investigation of Drill Pipe from the People's Republic of China: Ministerial Error Memorandum,” dated concurrently with this notice.

Because we have revised the determination of critical circumstances for the DP-Master Group, we are also revising the determination of critical circumstances for the Separate Rate Respondents because the calculation of changes in import volumes for those companies was calculated as the weighted average of the changes in import volumes for DP-Master Group, Baoshan and Yida. In accordance with section 735(e) of the Act, we are amending the Final Determination. As a result of correcting the ministerial error discussed above, we determine that critical circumstances exist for the DP-Master Group and the Separate Rate Respondents.

Cash Deposit Requirements

The Department will instruct U.S. Customs and Border Protection (“CBP”) to suspend liquidation of all entries of the merchandise under consideration from the PRC entered, or withdrawn from warehouse, for consumption on or after May 20, 2010, with respect to the DP-Master Group and the Separate Rate Respondents, which is 90 days prior to the date on which the suspension of liquidation was first ordered, i.e., 90 days prior to the date of publication of the Preliminary Determination ³ in the Federal Register. CBP shall continue to require a cash deposit or the posting of a bond equal to the estimated amount by which the normal value exceeds the U.S. price as shown above. These instructions suspending liquidation will remain in effect until further notice. For a general discussion of the application of cash deposits, see Final Determination, 76 FR at 19706.

³ Drill Pipe From the People's Republic of China: Preliminary Determination of Sales at Less Than Fair Value and Affirmative Determination of Critical Circumstances, and Postponement of Final Determination, 75 FR 51004 (August 18, 2010).

Administrative Protective Order

This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

This amended final determination and notice are issued and published in accordance with sections 735(e), and 777(i)(1) of the Act, and 19 CFR 351.224.

Dated: February 1, 2011.
Ronald K. Lorentzen,
Deputy Assistant Secretary for Import Administration.

[FR Doc. 2011-2751 Filed 2-7-11; 8:45 am]

BILLING CODE 3510-DS-P